DEPARTMENT OF LABOR

Employment and Training Administration

[TA-W-70,644]

Celanese Pampa, TX; Notice of Termination of Investigation

Pursuant to Section 223 of the Trade Act of 1974, as amended, an investigation was initiated in response to a petition filed on May 28, 2009 by a company official on behalf of workers of Celanese, Pampa, Texas.

The petitioner has requested that the petition be withdrawn. Accordingly, the investigation has been terminated.

Signed at Washington, DC this 21st day of August 2009.
Elliott S. Kushner,
Certifying Officer, Division of Trade Adjustment Assistance.

[FR Doc. E9-29163 Filed 12-7-09; 8:45 am]

BILLING CODE 4510-FN-P